DEPARTMENT OF COMMERCE

National Oceanic and Atmospheric Administration

50 CFR Part 660

[I.D. 021902D]

Western Pacific Fishery Management Council; Public Meetings

AGENCY: National Marine Fisheries Service (NMFS), National Oceanic and Atmospheric Administration (NOAA), Commerce.

ACTION: Notice of public meetings/public hearings.

SUMMARY: The Western Pacific Fishery Management Council (Council)and its Scientific and Statistical Committee (SSC) will meet in March (see SUPPLEMENTARY INFORMATION for specific times, dates, and agenda items).

ADDRESSES: The SSC meeting will be held in the Council conference room, 1164 Bishop Street, Suite 1400, Honolulu, HI; telephone: (808) 522-8220. The Council meeting and the hearings will be held at the Ala Moana Hotel, 410 Atkinson Drive, Honolulu, HI; telephone: 808-955-4811.

FOR FURTHER INFORMATION CONTACT: Kitty M. Simonds, Executive Director; telephone: 808-522-8220.

SUPPLEMENTARY INFORMATION:

Dates and Locations

Scientific and Statistical Committee

The SSC will meet Tuesday, March 12 through 14, 2002, from 8:30 a.m. to 5 p.m. Public comment periods will be provided throughout the meeting. The order in which agenda items are addressed may change. The SSC will meet as late as necessary to complete scheduled business.

The agenda for the SSC will include the items listed here:

1. Introductions

2. Approval of draft agenda and assignment of rapporteurs

3. Approval of the minutes of the 78th meeting

4. Crustaceans fisheries (NWHI lobsters)

A. Report on the modeling workshop

5. Bottom Fisheries

A. Research

(i) Acoustic research

(ii) Ulua/other species tagging

B. Report on main Hawaiian Islands (MHI) bottomfish area closures

C. NWHI amendment to adjustment permit renewal criteria

6. Hawaiian Monk Seals

A. Quarterly report on activities of the Marine Mammal Recovery Plan (MMRP)

(i) Update on the population status/monitoring efforts

(ii) Update on new/ongoing research

(iii) Findings from the foraging ecology workshop

(iv) Results from the shark culling project in the NWHI

B. Report on the progress of the recovery team meeting

C. Update on the satellite tagging of great white sharks

7. Pelagic Fisheries

A. 4th quarter 2001 Hawaii and American Samoa longline fishery reports

B. Options for managing Cross Seamount/NOAA weather buoy fishery

C. American Samoa

(i) Closed area final rule

(ii)Limited entry program

D. Sea turtle conservation and management

(i) Workshop and findings

(ii) Sea turtle research

(a) Section 10 permitted Honolulu lab mitigation research

(b) Honolulu Lab turtle population modeling workshops

(c) Estimated incidental catches of turtles in Hawaii longline fishery

(iii) FMP regulatory amendment implementing turtle Biological Opinion/New Biological Opinion

(iv) Implementation status of Pacific sea turtle recovery plan action items

E. Seabird conservation and management

(i) Underwater setting chute deployment in Hawaii longline fishery

(ii) Update on seabird breeding populations in the Western Pacific Region

(iii) Update on U.S. Geological Service demographic modeling of North Pacific Albatross populations

(iv) Estimated incidental catches of seabirds in Hawaii longline fishery

(v) FMP regulatory amendment implementing Short-tail albatross Biological Opinion

(vi) Update on National Plan of Action requirements

F. Redrafting of Amendment 9 to the Pelagic Fishery Management Plan for shark management measures

G. Report on International Meetings Co Interim Scientific Committee (ISC) for tuna and tuna-like species in the North Pacific Ocean prepatory conference, Pelagic fisheries research program protected species modeling workshop

8. Precious Corals Fisheries

A. Report on research at Makapu’u

9. Ecosystem and Habitat

A. Inclusion Amendment EFH alternative, final meeting

B. State of Hawaii NWHI fishery management area regulatory proposal

C. Reef fish stock assessment workshop

D. Marine Protected Area (MPA)related studies

E. MPA working group report

10. Other Business

A. Comprehensive Sustainable Fisheries Act (SFA) amendments for bycatch, overfishing and communities

B. NMFS cooperative research

C. Council/NMFS long term research planning for Western Pacific Region

D. New NMFS Pacific Islands Region

E. Council’s 5 year program plan

11. Summary of Recommendations to Council

12. SSC meeting Schedule for 2002

Public Hearings

Public hearings will be held at 4 p.m. on Tuesday, March 19, 2002, for final action on inclusion amendment to consider EFH alternatives; at 11 a.m. on Wednesday, March 20, 2002, for initial action adjustment to NWHI bottomfish annual landing requirements; at 5 p.m. on Wednesday, March 20, 2002, for American Samoa limited entry and Cross Seamount management options; and at 3 p.m. on Thursday, March 21, 2002, for final action on revisions to the comprehensive SFA amendment that will define overfishing, bycatch and communities.

Committee Meetings

The following Standing Committees of the Council will meet on March 18, 2002. Enforcement/Vessel Monitoring System (VMS) from 8 a.m. to 10 a.m.; Fishery Rights of Indigenous People from 9 a.m. to 10 a.m.; International Fisheries/Pelagics from 10 a.m. to 12 noon; Precious Corals from 1:30 p.m. to 3 p.m.; Crustaceans from 1:30 p.m. to 3 p.m.; Bottomfish from 3 p.m. to 4:30 p.m; Ecosystem and Habitat from 3 p.m. to 4:30 p.m.; Research from 4:30 to 6 p.m. and Executive/Budget and Program from 4:30 p.m. to 6 p.m.

In addition, the Council will hear recommendations from its advisory panels, plan teams, SSC, and other ad hoc groups. Public comment periods will be provided throughout the agenda. The order in which agenda items are addressed may change. The Council will meet as late as necessary to complete scheduled business.

The agenda during the full Council meeting will include the items listed here:

1. Introductions

2. Approval of agenda

3. Approval of 111th meeting minutes

4. Island reports

A. American Samoa

B. Guam

C. Hawaii

D. CNMI

5. Federal fishery agency and organization reports

A. Department of Commerce

(1) NMFS

(a) Southwest Region, Pacific Islands Area Office

(b) Southwest Fisheries Science Center, La Jolla and Honolulu Laboratories

(2) NOAA General Counsel, Southwest Region

(3) National Ocean Service NWHI sanctuary designation

B. Department of the Interior/U.S. Fish and Wildlife Service

C. U.S. State Department

6. Enforcement/Vessel monitoring systems (VMS)

A. Report on U.S. Coast Guard activities

B. Report on NMFS activities

C. Commonwealth, Territories and State Activities

D. Status of violations

E. Report on VMS/Enforcement meeting

7. Ecosystems and Habitat

A. Report on the status of the Coral Reef Ecosystems Fishery Management Plan

B. State of Hawaii NWHI fishery management area regulatory proposal/Memorandum of Agreement

C. EFH Final Rule

D. EFH Consultation update

E. EFH alternatives requirements for new bottomfish species

F. Invasive Species

(i) Major Issues

(ii) Discussion of potential mitigation measures

G. MPAs

(i) MPA related studies

(ii) MPA working group report

H. Vessel Grounding Workshop report

I. Public Hearing

The Council will hold a public hearing on an amendment to include as managed areas, CNMI and the PRIAs exclusive economic zone (EEZ), under the Fishery Management Plans (FMP) for Crustaceans, Bottomfish and Seamount Groundfish, and Precious Corals Fisheries of the Western Pacific Region. The amendment will allow fishery management measures under these FMPs to be applied in these areas.

The amendment will also designate 49 additional management unit species for the Bottomfish and Seamount Groundfish FMP. The inclusion of these species will provide for a more accurate representation of the species currently being harvested by bottomfish fisheries operating in the Western Pacific Region. EFH for these new species will also be designated by this amendment.

8. Crustaceans Fisheries

A. Report on the modeling workshop

B. Status of Draft Environmental Impact Statement and Biological Opinion

9. Precious Corals Fisheries

A. November 2001 Research at Makapu’u

B. Status of framework measures

10. Guest Speaker: Eldon Hout Co NOAA Services

11. Observer Program

A. NMFS Pacific Islands Area Office

(i) Bottomfish

(ii) American Samoa

(iii) Hawaii longline

B. Native Observer Program

12. Hawaiian Monk Seals

A. Status of revised recovery plan, delisting criteria and recovery team

B. MMRP quarterly report

(i) Update on the population status/monitoring efforts

(ii) Update on new/ongoing research

(iii) Findings from the foraging ecology workshop

(iv) Results from the shark culling project in the NWHI

(v) Update on Hawaiian monk seal models

C. Update on the satellite tagging of great white sharks

13. Bottomfish Fisheries

A. NWHI Framework Action: adjustment to landing requirements

B. Status of Biological Opinion and Draft Environmental Impact Statement

C. Report on MHI area closures

D. Acoustics research

E. Public hearing

The Council will consider an amendment to its Fishery Management Plan for Bottomfish and Seamount Groundfish Fisheries of the Western Pacific Region to modify the annual landing requirements or permit renewal and prohibitions on the lease and charter of permits from the NWHI Ho’omalu and Mau zone management regimes. The Council expects that these adjustments will best address the key objectives to maintain opportunities for small scale fisheries, maintain availability of high-quality fresh bottomfish, and balance harvest capacity with harvestable fishery stocks. The basic approach is to structure the permit system so that evidence of participation is used for new entry and the total number of permits are maintained at target levels.

14. Fishery rights of indigenous peoples

A. Marine conservation plans

B. Report on Community demonstration projects

C. Community development program

15. Pelagic Fisheries

A. 4th quarter 2001 Hawaii and American Samoa longline reports

B. American Samoa longline fishery management

(i) Closed area final rule

(ii) Limited entry program

C. Options for managing Cross Seamount/NOAA weather buoy fishery

D. Public hearing

The Council will hold a public hearing on American Samoa limited entry and Cross Seamount management options. The number of fishing vessels participating in the American Samoa longline fishery doubled in 2001, and the level of fishing effort in terms of hooks set quadrupled. The new entrants comprised mainly large conventional longliners which are fifty feet or larger, as opposed to the small 30-40 ft (9.144-12.192 m)outboard-powered alia-catamarans with hand deployed longline gear with which the American Samoa fishery originated.

In 2002 the Council implemented a 50 nm-area closure around the American Samoa islands which excludes longline vessels larger than 50 ft (15.2 m). However there are concerns about unconstrained entry of fishing vessels into the American Samoa fishery. Unlike Hawaii, fishing vessels in the American Samoa fishery are confined to fishing within the EEZ, and gear conflict and competition for resources are likely to increase as the level of fishing increases. Consequently, the Council is developing a limited entry program for the fishery, and this will be the initial Council meeting in the fishery management plan amendment process at which alternatives will be discussed and comments solicited from the public.

The offshore tuna handline fishery in Hawaii, based primarily on the Cross Seamount, continues to generate concerns due to the high volume of juvenile yellowfin and bigeye tunas caught at this location, and its effects on tuna stocks around Hawaii. Handline fishermen using the Cross Seamount have in the past expressed concerns about longline vessels fishing in the same location, due to gear interactions and safety at-sea issues. Concerns were also expressed about uncontrolled entry into the handline fishery by longline vessels displaced by recent management measures imposed on the Hawaii-based longline fishery.

The Council responded in part by implementing a new control date for the fishery of July 15, 2000. More recently, the downturn in the economy may lead to an increase in the level of new entrants into to the Cross Seamount fishery from other fishery sectors. The Council wants to consider management options for the Cross Seamount for the various fisheries that participate in fishing at this location. The Council will prepare an options paper for consideration at the 112th Council meeting and take comments from the public on the options therein. The Council may wish to proceed with the development of management alternatives for fisheries that make use of the Cross Seamount and request that this topic be placed on the agenda for the next Council meeting.

E. Litigation

F. Sea turtle conservation and management

(i) Cooperative sea turtle research and conservation workshop

(ii) Research (progress since October 2001)

(a) Status of field experiments to reduce longline turtle bycatch

(b) Laboratory research to reduce longline turtle bycatch

(c) Turtle population biology workshops

(d) Estimated incidental catches of turtles in Hawaii longline fishery

(iii) FMP regulatory amendment implementing turtle Biological Opinion

(iv) Implementation status of Pacific sea turtle recovery plan action items

G. Seabird conservation and management

(i) Underwater setting chute deployment in Hawaii longline fishery

(ii) Estimated incidental catches of seabirds in Hawaii longline fishery

(iii) FMP regulatory amendment implementing Short-tail albatross Biological Opinion

(iv) Update on National Plan of Action requirements

H. Sharks

(i) Shark finning regulations final rule

(ii) Redrafting of Amendment 9 to the Pelagic Fishery Management Plan for shark management measures

I. International meetings

(i) ISC

(ii) Second International Fishers Forum

16. Program planning

A. NMFS cooperative research

B. Education initiatives

C. Comprehensive Sustainable Fisheries Amendment (SFA) revisions to define overfishing, bycatch and communities

D. Funding allocations

(ii) Pelagics

E. Hawaiian Islands Humpback Whale National Marine Sanctuary (5 year review)

F. Digital video monitoring pilot project

G. Council/NMFS long term research planning for the Western Pacific Region

H. New NMFS Pacific Island Region

I. NWHI Hokule’a voyage

K. Public hearing on Comprehensive SFA amendment revisions.

In 1998, the Council submitted a comprehensive amendment to all the Council’s fishery management plans, which was generated in response to the 1996 re-authorization of the Magnuson-Stevens Act. This amendment received only partial approval. The disapproved sections included maximum sustainable yield and overfishing reference points for bottomfish, crustaceans and pelagics, bycatch provisions for bottomfish and pelagics, and the definition of Hawaii as a single fishing community. The Council has addressed NMFS’ concerns about the disapproved sections of the original comprehensive amendment and will solicit public comment prior to taking final action.

17. Administrative Matters

A. Financial reports

B. Administrative report

C. Meetings and workshops

Other Business

Although non-emergency issues not contained in this agenda may come before the Council for discussion, those issues may not be the subject of formal Council action during this meeting. Council action will be restricted to those issues specifically listed in this document and to any issue arising after publication of this document that requires emergency action under section 305 (c) of the Magnuson-Stevens Act, provided that the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 16 U.S.C. 1801 et seq.

Dated: February 22, 2002.
Bruce C. Morehead,
Acting Director, Office of Sustainable Fisheries, National Marine Fisheries Service.

[FR Doc. 02-4674 Filed 2-26-02; 8:45 am]

BILLING CODE 3510-22-S